DEPARTMENT OF HEALTH AND HUMAN SERVICES

Centers for Medicare & Medicaid Services

[CMS-9978-N4]

Public Meeting of the Consumer Operated and Oriented Plan (CO-OP) Advisory Board, April 15, 2011

AGENCY: Centers for Medicare & Medicaid Services (CMS), HHS.

ACTION: Notice of meeting.

SUMMARY: This notice announces the fourth meeting of an advisory committee to the Center for Consumer Information and Insurance Oversight (CCIIO) in accordance with the Federal Advisory Committee Act. The meeting is open to the public and will be conducted by telephone. The purpose of the meeting is to assist and advise the Secretary of the Department of Health and Human Services' through CCIIO strategy to foster the creation of qualified nonprofit consumer-operated health insurance issuers.

DATES: Meeting Date: April 15, 2011 at 1 p.m. (eastern daylight time (e.d.t.)). Meeting Registration and Written Comments: Anne Bollinger, Center for Consumer Information and Insurance Oversight, CMS, 200 Independence Avenue, SW., Washington, DC 20201, 301-492-4395, Fax: 301-492-4462, or contact by e-mail at anne.bollinger@hhs.gov. Written comments must be submitted in Word format. Deadline for Requesting Special Accommodations: April 12, 2011, 5 p.m., e.d.t.

ADDRESSES: Meeting Phone Access: Participants should dial into the toll free phone number (877) 917-7130, and provide the following code to the operator: HHS.

Registration: The meeting is open to the public and only available through the toll free number. Persons wishing to attend this meeting must register by contacting the individual listed in the FOR FURTHER INFORMATION CONTACT section of this notice.

FOR FURTHER INFORMATION CONTACT: Anne Bollinger, 301-492-4395. Press inquiries are handled through CCIIO's Press Office at (202) 690-6343.

SUPPLEMENTARY INFORMATION:

I. Background

The purpose of the meeting is to assist and advise the Secretary of the Department of Health and Human Services (the Secretary) (the Department) through the Center for Consumer Information and Insurance Oversight (CCIIO) on the Department's strategy to foster the creation of qualified consumer-operated nonprofit health insurance issuers (CO-OPs). Specifically, the advisory committee (the Committee) will advise the Secretary concerning the award of grants and loans related to section 1322 of the Patient Protection and Affordable Care Act (the Affordable Care Act), entitled “Federal program to assist establishment and operation of nonprofit, member run health insurance issuers.” In these matters, the Committee will consult with all components of the Department, other Federal entities, and non-Federal organizations, as appropriate; and examine relevant data sources to assess the grant and loan award strategy to provide recommendations to CCIIO.

II. Meeting Agenda

The Committee will present its proposed report and recommendations as agreed to in substance at the March 14, 2011 advisory committee meeting and will conduct a vote of the Committee on whether to approve the report as its recommendation to CCIIO concerning the grant and loan award strategy for CO-OPs. We intend to make background material available to the public no later than 2 business days prior to the meeting. If we are unable to post the background material on our Web site prior to the meeting, the background material will be posted on the Web site after the meeting, at http://cciio.cms.gov/.

Individuals requiring special accommodations must contact the Designated Federal Official (DFO) via the contact information specified in the FOR FURTHER INFORMATION CONTACT section of this notice by the date listed in the DATES section of this notice.

We are committed to the orderly conduct of its advisory committee meetings. We refer readers to our Web site at http://cciio.cms.gov/ for procedures on public conduct during advisory committee meetings.

(Catalog of Federal Domestic Assistance Program No. 93.773, Medicare—Hospital Insurance; and Program No. 93.774, Medicare—Supplementary Medical Insurance Program)

Dated: March 25, 2011.
Donald M. Berwick,
Administrator, Centers for Medicare & Medicaid Services.

[FR Doc. 2011-7484 Filed 3-29-11; 8:45 am]

BILLING CODE P